DEPARTMENT OF HEALTH AND HUMAN SERVICES

Centers for Medicare & Medicaid Services

Statement of Organization, Functions, and Delegations of Authority

Part F of the Statement of Organization, Functions, and Delegations of Authority for the Department of Health and Human Services, Centers for Medicare & Medicaid Services (CMS), (Federal Register , Vol. 73, No. 46, pp. 12451-12452, dated Friday, March 7, 2008) is amended to reflect a change in the name and updates to the functions for the Center for Beneficiary Choices.

Part F. is described below:

• Section F. 20. (Functions) reads as follows:

Center for Drug and Health Plan Choice (FAE)

• Responsible for all national policies and operations necessary for the purchasing of Medicare Prescription Drug (Part D) and Medicare Advantage (Part C) health plan benefits. Designs, implements, and manages the procurement of prescription drug plans (PDPs) and Medicare Advantage plans (MA and MA-PD plans), including the solicitation and approval of applications, review of benefits and negotiation of competitive bids, the implementation of quality improvement and performance measures, review of fiscal solvency and contractor management activities.

• Develops and improves all bidding and payment policies related to the Medicare Prescription Drug Benefit and the Medicare Advantage (MA) program.

• Validates payments to the Part D prescription drug and MA plans, including routine annual risk adjustment data validation based on medical record review.

• Coordinates the development and management of business requirements for the national systems for enrollment, payment, and contractor management for the Prescription Drug Benefit and the Medicare Advantage (MA) programs.

• Develops and implements the national policy and oversees operational implementation for all issues related to the Retiree Drug Subsidy Program.

• Develops national policy for eligibility, enrollment and entitlement for Medicare Parts A, B, C, and D, including oversight of activities related to Part D auto-enrollment, low income subsidy, and creditable coverage.

• Develops national policy and oversees operational activities related to Medicare Part A, B, C, and D claims-related hearings, appeals, grievances and other beneficiary-centered dispute resolution processes.

• Serves as the focal point for issues related to a variety of Federal standards affecting private health insurance coverage, including those pertaining to its administration of the Medigap program, Title I of the Health Insurance Portability and Accountability Act and the Consolidated Omnibus Budget Reconciliation Act.

• Works closely with the regional Consortium for Medicare Health Plans Operations (CMHPO) on all operational aspects of the Part C and Part D programs.

• Develops and implements Part C and Part D contractor performance monitoring programs and Part C and Part D compliance and oversight programs and carries out these programs collaboratively with CMHPO.

• Develops surveys to measure consumer experiences with their health plans and health care providers; manages the Consumer Assessment of Health Care Provider and Systems (CAHPS) survey; develops and prepares performance measures for Part C sponsors; analyzes and reports Health Plan Employers Data and Information Set data for Part C performance measures and consumer reports; and assesses the effectiveness of CMS' quality reporting activities.

• Effectively communicates program policies related to the Prescription Drug and Medicare Advantage (MA) programs to heath plans and drug plan contractors, employer group sponsors, beneficiary advocates and other stakeholders in the health care field.

• Develops new policies (e.g. health plan access, benefits, special needs plans) and programs to reflect changes in program objectives, the health care delivery system, beneficiary health care needs, and new plan types to support an appropriate range of choices for beneficiaries.

• Collaborates with our partners, such as industry, other government entities and advocacy groups, to understand their perspectives on Prescription Drug and Medicare Managed Care policies and procedures and to drive best practices in the health care industry.

• Develops and implements a comprehensive strategic plan, objectives and measures for overseeing an effective compliance and oversight program for all Part C (Medicare Advantage) and Part D (Medicare Prescription Drug) contractors in close collaboration with CMHPO, the Medicare Drug Benefit and C & D Data Group, the Medicare Drug and Health Plan Contract Administration Group and other Center for Drug and Health Plan Choice components.

• Develops and implements a comprehensive and effective audit program for all Part C (Medicare Advantage) and Part D (Medicare Prescription Drug) contractors.

Dated: June 21, 2008.
James W. Weber,
Acting Director, Office of Operations Management, Centers for Medicare & Medicaid Services.

[FR Doc. E8-14896 Filed 6-30-08; 8:45 am]

BILLING CODE 4120-01-P